DEPARTMENT OF ENERGY

Federal Energy Regulatory Commission

[Docket No. RP03-370-001]

National Fuel Gas Supply Corporation; Notice of Compliance Filing

July 2, 2003.

Take notice that on June 27, 2003, National Fuel Gas Supply Corporation (National Fuel) tendered for filing as part of its FERC Gas Tariff, Fourth Revised Volume No. 1, the tariff sheets listed in its filing, with an effective date of July 1, 2003.

National Fuel states that the purpose of this filing is to submit revised tariff sheets in compliance with the Commission letter order issued on June 20, 2003, in Docket No. RP03-370-000 and to conform to the WGQ Standards incorporated by Order No. 587-R, Standards for Business Practices of Interstate Natural Gas Pipelines.

National Fuel states that copies of this filing were served upon its customers, interested state commissions and the parties on the official service list compiled by the Secretary in this proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 9, 2003.

Magalie R. Salas,
Secretary.

[FR Doc. 03-18940 Filed 7-24-03; 8:45 am]

BILLING CODE 6717-01-P